DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 18, 2023 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Increasing Land, Capital, and Market Access Program

OMB Control Number: 0560-NEW.

Summary of Collection: The purpose of the program is to fund projects that support a diverse set of farmers, ranchers, and forest landowners (producers) on the edge financially; moving them from surviving to thriving as they address core barriers to attain land, capital, and market access. The Increasing Land, Capital, and Market Access Program is funding cooperative agreements or grants (awarded) for projects that are designed to align with and respond to land, capital, and market access needs of the underserved farmers, ranchers, and forest landowners while concurrently providing wraparound technical assistance to ensure that program participants have the information, training, and customized support they require.

Need and Use of the Information: FSA will be collecting the initial report and progress reports quarterly and annually. Without the information, FSA would not be able to assess the performance of the program.

Description of Respondents: Farms; Business or other for profit.

Number of Respondents: 100.

Frequency of Responses: Reporting: Annually.

Total Burden Hours: 3,650.

Farm Service Agency

Title: Disaster Assistance—General (7 CFR part 1945-A).

OMB Control Number: 0560-0170.

Summary of Collection: The regulation (7 CFR 759) defines the responsibilities of the Secretary of Agriculture in making disaster area determinations, the types of incidents that can result in a disaster area determination, and the factors used in making disaster area determinations. The Farm Service Agency (FSA) is managing the collection. The determination of a disaster area is prerequisite to authorizing emergency (EM) loans to qualified farmers as specified in the 7 CFR 764. EM loan funds may be used to restore or replace essential property, pay all or part of production costs incurred by the farmer or rancher in the year of the disaster, pay for essential family living expenses, pay to reorganize the farming operation or refinance USDA and non-USDA creditors. The information collection occurs when the Secretary receives a letter from an individual farmer, local government officials, State Governor, State Agriculture Commissioners, State Secretaries of Agriculture, other State government officials, and Indian Tribal Council, requesting a Secretarial natural disaster determination. Supporting documentation of losses for all counties having disaster is provided by the County Emergency Boards in the form of a report called Loss assessment report (LAR).

Need and use of the Information: FSA collects the following information to determine if the county is eligible to qualify for a natural disaster designation: (1) The nature and extent of production losses; (2) the number of farmers who have sustained qualifying production losses; and (3) the number of farmers that have sustained qualifying production losses that other lenders in the county have indicated that they will not be in a position to finance. The collection of information is necessary to determine whether the counties did sustain sufficient production losses to qualify for a natural disaster designation.

Description of Respondents: State, Local or Tribal Government.

Number of Respondents: 1,312.

Frequency of Responses: Reporting: Annually.

Total Burden Hours: 626.

Ruth Brown,
Departmental Information Collection Clearance Officer.

[FR Doc. 2023-25450 Filed 11-16-23; 8:45 am]

BILLING CODE 3410-05-P